DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, call the HRSA Reports Clearance Office on (301)-443-1129.

The following request has been submitted to the Office of Management and Budget for review under the Paperwork Reduction Act of 1995:

Proposed Project: Cross-site Evaluation of the Effectiveness of the Infant Adoption Awareness Training Program (IAATP)—NEW

HRSA proposes to evaluate the Infant Adoption Awareness Training Program being implemented by adoption organizations. The IAATP is authorized under the Children's Health Act of 2000 (CHA), Title XII, Subtitle A to develop, implement and evaluate curricula to achieve the goal of providing adoption information and referrals on an equal basis with other courses of action included in non-directive counseling to pregnant women. National, regional and local organizations whose primary purpose includes adoption were funded under IAATP cooperative agreements to deliver adoption training to health care workers with a special focus on those working in health care facilities funded under section 1001 and section 330 of the Public Health Service Act and those receiving grants to provide health services in schools. The Children's Health Act mandates that the Secretary submit to Congress a report evaluating the effectiveness of training delivered under the IAATP and the extent to which it results in the provision of adoption information and referrals to pregnant women on an equal basis with other courses of action included in non-directive counseling to pregnant women.

To determine if the IAATP is effective in achieving the intent of the congressional mandate, the proposed study will assess the effect of IAATP training on knowledge, attitudes and self-reported practices for health care workers who counsel pregnant women in health care settings. An estimated 1,752 health care workers who regularly counsel pregnant women and who completed IAATP training will be recruited into the study and will complete a 15 minute mail survey instrument covering the time and extent of their exposure to the IAATP training, as well as knowledge, attitudes and self-reported practices in providing adoption information and referrals to pregnant women. A comparison group of 572 health care workers who perform pregnancy counseling but did not receive the IAATP training, will receive a mail survey on their knowledge, attitudes and self-reported behaviors in providing adoption information and referrals to the pregnant women that they counsel.

In addition, staff of each of the four grantees, their trainers and trainees will participate in interviews and focus groups to document the program development and training processes and delivery of the IAATP. For each grantee, there will be one and half hour individual interviews of grantee staff, one focus group of trainers from each of four grantees, and two focus groups of trainees from each of four grantee programs.

Respondents | Number of respondents | Responses per respondent | Hours per response | Total burden hours
Trainee Survey | 1,144 | 1 | .25 | 286
Comparison Group Survey | 572 | 1 | .25 | 143
Telephone Focus Group | 36 | 1 | 1.5 | 54
Total | 1,752 |  |  | 483

Written comments and recommendations concerning the proposed information collection should be sent within 30 days of this notice to: John Morrall, Human Resources and Housing Branch, Office of Management and Budget, New Executive Office Building, Room 10235, Washington, DC 20503.

Dated: December 11, 2002.
Jane M. Harrison,
Director, Division of Policy Review and Coordination.

[FR Doc. 02-31719 Filed 12-17-02; 8:45 am]

BILLING CODE 4165-15-P